DEPARTMENT OF HOUSING AND URBAN DEVELOPMENT

[Docket No. FR-4907-N-21]

Notice of Proposed Information Collection: Comment Request; Pet Ownership in Assisted Rental Housing for the Elderly or Handicapped

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 27, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov, telephone (202) 708-5221 (this is not a toll-free number) for copies of the proposed forms and other available information.

FOR FURTHER INFORMATION CONTACT: Kimberly R. Munson, Office of Asset Management, Department of Housing and Urban Development, 451 7th Street, SW., Room 6168, Washington, DC 20410, telephone number (202) 708-1320 ext. 5122 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Pet Ownership in Assisted Rental Housing for the Elderly or Handicapped.

OMB Control Number, if applicable: 2502-0342.

Description of the need for the information and proposed use: The “Notice to Tenants” distributed to tenants identifying the requirement of the project owner to inform the tenant of the pet ownership approval, and the rules under which such approval will be granted when he/she is offered a dwelling unit. The pet rules established the requirements for the pet owner to register the pet with the project manager annually.

Agency form numbers, if applicable: None.

Estimation of the total number of hours needed to prepare the information collection including number of respondents, frequency of response, and hours of response: The total number of respondents is estimated to be 9,000; the frequency of responses is 1; the estimated time to prepare the form is approximately .56 hours per response (a combined number based on various activities to include initial notice to tenants {.167 hours}, annual registration of pets {.25 hours}, consultation with tenants to establish {2 hours} and amend {1.25 hours} pet rules, and violations of pet rules {.167 hours}), and the total annual burden hours requested are 15,960.

Status of the proposed information collection: Extension of a currently approved collection.

Authority: The Paperwork Reduction Act of 1995, 44 U.S.C., Chapter 35, as amended.

Dated: May 10, 2004.
Sean G. Cassidy,
General Deputy Assistant Secretary for Housing Deputy Federal Housing Commissioner.

[FR Doc. 04-12183 Filed 5-27-04; 8:45 am]

BILLING CODE 4210-27-M